DEPARTMENT OF COMMERCE

Bureau of the Census

[Docket Number 150519465-5465-01]

Streamlining Summary Level 070 Tables in the 5-Year American Community Survey

AGENCY: Bureau of the Census, Commerce.

ACTION: Notice and request for comments.

SUMMARY: The Census Bureau's American Community Survey (ACS) collects detailed demographic, social, economic, and housing data from about 3.5 million addresses in the United States and 36,000 in Puerto Rico each year. Annual data products are released in the form of 1-Year and 5-Year estimates with 5-Year estimates being produced for over 578,000 geographies by 87 different summary levels. Most summary levels and their corresponding geographies are then produced for approximately 1,000 detailed tables. As a cost-saving measure and to improve usability of the estimates, the Census Bureau is reviewing the data products released by the ACS for usefulness and necessity. Beginning with the 2010-2014 ACS 5-Year estimates, the Census Bureau plans to streamline the production and release of Summary Level 070 tables (state/county/county subdivision/place remainder (or part)) to 15 tables. This very small summary level was created to allow for the delineation of metropolitan, micropolitan, and related statistical areas by the Office of Budget and Management (OMB). The Census Bureau recommends only tabulating and releasing those 15 tables for Summary Level 070 that are necessary for the delineation of metropolitan, micropolitan, and related statistical areas (particularly for identification of New England City and Town Area principal cities), commuting analysis, and basic demographic and housing analysis.

DATES: To ensure consideration, written comments must be received by July 6, 2015.

ADDRESSES: Direct all written comments to KaNin Reese, Rm. 7H176F, U.S. Census Bureau, Social, Economic and Housing Statistics Division, Washington, DC 20233 or via email at kanin.l.reese@census.gov.

FOR FURTHER INFORMATION CONTACT: KaNin Reese, Rm. 7H176F, U.S. Census Bureau, Social, Economic, and Housing Statistics Division, Washington, DC 20233, by phone at 301-763-3493 or via email at kanin.l.reese@census.gov.

SUPPLEMENTARY INFORMATION: Beginning with the 2010-2014 ACS 5-Year tables, the Census Bureau plans to streamline the production and release of Summary Level 070 tables (state/county/county subdivision/place remainder (or part)) to the 15 tables necessary for the delineation of metropolitan, micropolitan, and related statistical areas (particularly for identification of New England City and Town Area principal cities) by the Office of Budget and Management (OMB), for other commuting analysis, and for basic demographic and housing analysis. The Census Bureau conducts the ACS program under 13 U.S.C. Sections 141 and 193. In our latest release, this summary level was produced for 69,939 unique geographies with approximately 70 percent of all estimates produced as zero since place parts in the county subdivision represent very small areas. In addition to the data quality of these small geographies, the user statistics show that these tables are not widely accessed by data users.

Since the ACS was created as the replacement for the Census long-form, the ACS began by producing the same summary levels that were produced in Census 2000. The purpose of Summary Level 070 (state/county/county subdivision/place remainder (or part)) is for the delineation of metropolitan, micropolitan, and related statistical areas (particularly for identification of New England City and Town Area principal cities) under OMB standards. However, not all 1,000 detailed tables being produced for this summary level are needed for delineation. The Census Bureau has identified ten commuting tables necessary for the delineation process and for other commuting analysis, and five basic demographic and housing tables necessary for the production and release of the summary level.

The 15 tables to remain for Summary Level 070 include:

1. B01001—Sex by Age

2. B01003—Total Population

3. B02001—Race

4. B08007—Sex of Workers by Place of Work—State and County Level

5. B08008—Sex of Workers by Place of Work—Place Level

6. B08009—Sex of Workers by Place of Work—Minor Civil Division Level for 12 Selected States (CT, ME, MA, MI, MN, NH, NJ, NY, PA, RI, VT, WI)

7. B08301—Means of Transportation to Work

8. B08302—Time Leaving Home to Go to Work

9. B08303—Travel Time to Work

10. B08601—Means of Transportation to Work for Workplace Geography

11. B08602—Time Arriving at Work from Home for Workplace Geography

12. B08603—Travel Time to Work for Workplace Geography

13. B08604—Worker Population for Workplace Geography

14. B25001—Housing Units

15. B25003—Tenure

The Census Bureau has been reviewing and documenting the utility of releasing Summary Level 070 by all 1,000 tables for several years. Not only is the data quality insufficient for many of the individual geographies, but very few data users are accessing the tables on American Factfinder or our summary files on our FTP site. Further, we have an increasing concern that some data users may be using the summary level incorrectly, mistaking these place parts in the county subdivision for the place-level geographies.

By releasing only a few key demographic, social, and housing tables for this summary level, we believe we are still maintaining the true purpose and integrity of the summary level while eliminating a great deal of additional resources needed for the full production of the product. Streamlining the tables in this summary level will save the Census Bureau almost $100,000 over a 5-year period. If data users believe that additional tables are necessary for this summary level, we welcome those suggestions.

Specifically, comments are invited on: (a) Whether Summary Level 070 (state/county/county subdivision/place remainder (or part)) is necessary for the proper performance of the functions of the agency, including whether the information has practical utility; (b) whether the 15 tables planned for release are sufficient for data user needs for these geographies; and (c) if there are additional tables beyond the 15 listed for Summary Level 070 that are necessary for the 5-Year release.

Dated: May 29, 2015.
John H. Thompson,
Director, Bureau of the Census.

[FR Doc. 2015-13771 Filed 6-4-15; 8:45 am]

BILLING CODE 3510-07-P